DEPARTMENT OF ENERGY

Federal Energy Regulatory Commission

[Project No. 11811-001]

Wisconsin Logs, Inc.; Notice of Surrender of Preliminary Permit

November 19, 2001.

Take notice that Wisconsin Logs, Inc., permittee for the proposed Merrill Paper Mill Project, has requested that its preliminary permit be terminated. The permit was issued on January 4, 2001, and would have expired on December 31, 2003. The project would have been located on the Prairie River in Lincoln County, Wisconsin. The permittee states that due to present economic and political conditions the project has become unviable.

The permittee filed the request on November 1, 2001, and the preliminary permit for Project No. 11811 shall remain in effect through the thirtieth day after issuance of this notice unless that day is Saturday, Sunday, or holiday as described in 18 CFR 385.2007, in which case the permit shall remain in effect through the first business day following that day. New applications involving this project site, to the extent provided for under18 CFR part 4, may be filed on the next business day.

David P. Boergers,
Secretary.

[FR Doc. 01-29311 Filed 11-23-01; 8:45 am]

BILLING CODE 6717-01-P